DEPARTMENT OF HEALTH AND HUMAN SERVICES

Office of the Secretary

National Institutes of Health; Statement of Delegation of Authority

Notice is hereby given that I have delegated to the Director, National Institutes of Health, the authority under Part B, Title IV, section 409I(a) and (b) of the Public Health Service (PHS) Act, as amended by Public Law 107-109 (Best Pharmaceuticals for Children Act), to (1) award contracts to entities that have the expertise to conduct pediatric clinical trials, to enable the entities to conduct pediatric studies concerning one or more of the drugs identified in the list described in subsection (a) of section 409I of the PHS Act, as amended, and (2) to develop and publish the list of drugs described in subsection (a) of section 409I of the PHS Act, as amended.

This delegation shall be exercised in accordance with the Department's applicable policies, procedures, guidelines and regulations. In addition, I ratify and affirm any actions taken by the Director, National Institutes of Health, or subordinates which involved the exercise of the authorities delegated herein prior to the effective date of this delegation.

This delegation is effective upon date of signature.

Dated: June 12, 2002.
Tommy G. Thompson,
Secretary.

[FR Doc. 02-15535 Filed 6-14-02; 8:45 am]

BILLING CODE 4140-01-M